DEPARTMENT OF TRANSPORTATION

Federal Aviation Administration

14 CFR Part 71

Proposed Revisions of the Air Traffic Control (ATC) Airspace and Procedures, Anchorage Terminal Area, Anchorage, Alaska; Public Meeting

AGENCY: Federal Aviation Administration (FAA), DOT.

ACTION: Notice of public meeting.

SUMMARY: The FAA will hold a public meeting on ATC airspace and procedures affecting the Anchorage Terminal Area, Anchorage, AK. The objective of this meeting is to provide interested persons a final opportunity to review specific proposed procedures formulated in the Anchorage Terminal Area Airspace and Procedures Revision Project prior to their implementation. The goal of this project is to maximize efficiency and improve safety for aircraft routes and ATC procedures used in the airspace surrounding Anchorage, Alaska. The project relates to operations by aircraft operating under Instrument Flight Rules (IFR) and Visual Flight Rules (VFR). This meeting will outline proposals affecting VFR operations within the Anchorage Terminal Area. Alternatives developed as a result of this and other meetings may involve changes to existing regulatory airspace.

DATES: The meeting will be on Friday, December 7, 2001, from 6:00 PM to 9:00 PM.

ADDRESSES: Multi-Purpose Room at the Spenard Community Recreation Center, 2020 West 48th Avenue, Anchorage, Alaska.

FOR FURTHER INFORMATION CONTACT: John Craft, Anchorage Airport Traffic Control Tower (ATCT), 5200 West International Airport Road, Anchorage, AK 99502; telephone: (907) 271-2702; fax: (907) 271-2960; email: john.craft@faa.gov. The Spenard Community Recreation Center telephone number is (907) 343-4160.

SUPPLEMENTARY INFORMATION:

History and Background

Historical increases and projections for air traffic activity in the Anchorage Terminal Area indicate that revision to air traffic routes and air traffic control procedures used in the Anchorage area are necessary in order to continue to provide safe and efficient air traffic control service to airspace users. Aircraft operations in the Anchorage area have increased 21% for the period from January 1, 1996, to December 31, 2000, and are projected to increase at an approximate rate of 5% annually through the year 2020.

An initial public workshop for this project was held on April 17, 2001, at the Spenard Community Recreation Center. Proposed new procedures were displayed and comments on the proposals were solicited from the public. Changes based on public comments and suggestions have been made and these changes will be presented at this meeting. Electronic copies of the original proposals as well as the latest changes are available at the project web site, http://www.alaska.faa.gov/ame under the “Route Graphics” menu item. Paper copies may be obtained by contacting Curt Faulk at the Anchorage ATCT, telephone: 271-2701.

Meeting Procedures

(a) The meeting will be informal in nature and will be conducted by representatives of the FAA Alaskan Region Terminal Focus Leadership Team (FLT).

(b) The meeting will be open to all persons on a space-available basis. Every effort was made to provide a meeting site with sufficient capacity for expected participation. There will be no admission fee nor other charge to attend and participate.

(c) Representatives of Anchorage ATCT, Merrill Field ATCT, and Anchorage Terminal Radar Approach Control will be presenting specific procedural changes concerning VFR operations in the Anchorage area. A FAA Air Traffic Division representative will be present to discuss environmental concerns.

(d) Any person who wishes to present a position paper to FAA representatives pertinent to the revision of ATC airspace or procedures may do so. In order to be included in the administrative record for the project, all submissions must contain the name and address of the author.

(e) Persons wishing to hand out pertinent position papers to attendees should present two copies to the presiding officer and have sufficient additional copies available for all attendees.

(f) The meeting will not be formally recorded. However, informal tape recordings may be made of presentations to ensure that each respondent's comments are noted accurately.

(g) An official verbatim transcript or minutes of the informal airspace meeting will not be made. However, a list of the attendees, written statements received from attendees during and after the meeting and a digest of discussions during the meeting will be included in the administrative record for the project.

(h) Every reasonable effort will be made to hear all concerns of interested persons consistent with a reasonable closing time for the meeting. Written materials may also be submitted to the team for up to thirty (30) days after the close of the meeting.

Agenda

(a) Opening remarks and discussion of meeting procedures

(b) Presentation of changes to proposed procedures by ATC facility representatives

(c) Question and answer period

(d) Closing comments.

* * * * *

Issued in Anchorage, AK, on October 30, 2001.
Stephen P. Creamer,
Assistant Manager, Air Traffic Division, Alaskan Region.

[FR Doc. 01-27988 Filed 11-6-01; 8:45 am]

BILLING CODE 4910-13-P